DEPARTMENT OF JUSTICE

National Institute of Corrections

Solicitation for a Cooperative Agreement—Videotape: Interpersonal Communications in the Correctional Setting

AGENCY: National Institute of Corrections, Department of Justice.

ACTION: Solicitation for a cooperative agreement.

SUMMARY: The National Institute of Corrections, Jails Division, is seeking applications for the production of a betacam or digital format videotape, Interpersonal Communications in the Correctional Setting.

Background

Supervising inmates and managing their behavior are two of the primary responsibilities of correctional institutions. Effective communication with inmates is one of the most important skills correctional staff must have to maintain the safety and security of institutions. The National Institute of Corrections has an established curriculum on Interpersonal Communications in the Correctional Setting which is used to instruct correctional staff in appropriate communication skills for use with the inmates they supervise. Materials for this curriculum include an instructor's guide, participant manual, and a 60 minute instructional videotape. The current instructional videotape is outdated in terms of narrator and actor appearance, language, and use of graphics. To ensure the course remains effective NIC needs to produce an updated version of the training videotape.

Project Objectives

To produce a revised version of the existing Interpersonal Communications in the Correctional Setting training tape, using a revised script provided by the National Institute of Corrections.

Scope of Work

Videotape Length: About 60 minutes.

Videotape Audience: Correctional staff and instructors participating in the Interpersonal Communications in the Correctional Setting training program.

Use of Videotape: The videotape will be used in the Interpersonal Communications in the Correctional Setting training program. Instructors will use the videotape during the training, in conjunction with the instructor's guide and participant manual.

Videotape Distribution: NIC expects to widely distribute the videotape. It will be made available, upon request and free of charge, through the NIC Information Center. Local officials, detention practitioners, professional corrections organizations, private corrections consultants, and professionals in related fields will be able to request the use of this videotape.

Videotape Content: The National Institute of Corrections has developed a revised script for this videotape. The approximately 60 minute videotape will include an on-screen narrator, voice-over narration, music, graphics, scenarios using professional actors to portray correctional staff and inmates, and/or other strategies designed to most effectively demonstrate concepts. Scenarios will be filmed inside correctional facilities. Scenario actors will represent diverse backgrounds (ethnicity, race, age, and sex).

Project Description: The production company will see the videotape production through from beginning to end. The company is expected to provide the staff, equipment, and other resources necessary to directing, producing, filming, editing, and all other activities necessary to videotape production.

The production company is asked to assign one staff to oversee the project and work closely with NIC staff on all phases of videotape production. NIC staff will assist in identifying correctional facilities for on-site shooting. NIC staff will be available on-site during some or all of the filming. NIC staff must review and approve the treatment, creative ideas, selection of the narrator and actors, shooting days, music, graphics, animation, editing, and screening dates. NIC staff will have all editing rights and final approval of rough drafts.

NIC staff will be available to the production company to assist with questions or problems that arise. It is important, therefore, that the production company staff are readily available for in-person meetings with NIC staff in Longmont, Colorado. At a minimum, the production company must be available to meet in Longmont, Colorado for a project kick-off meeting.

The production company will videotape in betacam or digital format. Once the videotape is completed, the production company will provide NIC one betacam or digital master and 12 copies of the tape in VHS format. All videotape used in this production, including B footage, is the property of the U.S. Government and is to be delivered to NIC upon completion of this project.

Production Schedule: The list below shows the major activities required to complete the project. Videotape production will begin upon award of this agreement and must be completed twelve months after the award date. The schedule for completion of activities should include the following, at a minimum.

• Production company's kickoff meeting in Longmont, Colorado with NIC staff for a project overview;

• Production company's review of existing video and revised script provided by NIC;

• Selection of on-screen narrator, voice-over narration, and scenario actors coordinated with an approved by NIC staff;

• Selection of scenario site(s) coordinated and approved by NIC staff;

• Filming scheduled and coordinated with NIC staff;

• Filming;

• Completion of draft footage;

• Screening of draft footage by production company and NIC staff;

• Edit from screen;

• Graphics/animation/music planned, then presented to and approved by NIC staff;

• Graphics/animation/music created;

• On-screen narration and voice-over narration presented to and approved by NIC staff;

• Screening of edit(s) by production company and NIC staff;

• Review and approval of final edit by NIC staff;

• Final products delivered.

Authority: Public Law 93-415

Funds Available: The award will be limited to $85,000 (direct and indirect costs) and project activity must be completed within twelve months of the date of award. Funds may not be used for construction, or to acquire or build real property. This project will be a collaborative venture with the NIC Jails Division.

Application Procedures

Applications must be submitted in six copies to the Director, National Institute of Corrections, 320 First Street, NW., Room 5007, Washington DC 20534. At least one copy of the application must have the applicant's original signature in blue ink. A cover letter must identify the responsible audit agency for the applicant's financial accounts.

Applications must be submitted using OMB Standard Form 424, Federal Assistance, and attachments. The applications should be concisely written, typed double-spaced, and referenced to the project by the number and title given in this cooperative agreement announcement.

The narrative portion of this cooperative agreement application should include, at a minimum:

• A brief paragraph that indicates the applicant's understanding of the purpose of the videotape;

• A brief paragraph that summarizes the project goals and objectives;

• A clear description of the methodology that will be used to complete the project and achieve its goals;

• A statement or chart of measurable project milestones and time lines for the completion of each;

• A description of the staffing plan for the project, including the role of each project staff, the time commitment for each, the relationship among the staff (who reports to whom), and an indication that all required staff will be available;

• A description of the qualifications of the applicant organization and each project staff;

• A budget that details all costs for the project, shows consideration for all contingencies for this project, and notes a commitment to work within the budget proposed (budget should be divided into object class categories as shown on application Standard Form 424A).

Documentation of the principal's and associate's relevant knowledge, skills, and abilities to carry out the described tasks must be included in the application. The application must be accompanied by a resume of the applicant's work and a brief sample(s) of complete video productions. The applicant organization must specify its roles in the production of the sample videos.

Deadline for Receipt of Applications: Applications must be received by 4:00 p.m. on Tuesday, May 7, 2002. They should be addressed to Director, National Institute of Corrections, 320 First Street, NW., Room 5007, Washington, DC 20534. The NIC application number should be written on the outside of the mail or courier envelope. Applicants are encouraged to use Federal Express, UPS, or similar service to ensure delivery by the due date as mail at the National Institute of Corrections is still being delayed due to recent events. Hand delivery applications should be brought to 500 First Street, NW., Washington, DC 20534. The front desk will call (202) 307-3106, extension 0 for pickup. Faxed or e-mailed applications will not be accepted.

Addresses and Further Information: A copy of this announcement and application forms may be obtained through the NIC Web site: http://www.nicic.org (click on “Cooperative Agreements”). Requests for a hard copy of the application kit should be directed to Judy Evens, Cooperative Agreement Control Office, National Institute of Corrections, 320 First Street, NW., Room 5007, Washington, DC 20534 or by calling 800-995-6423, ext. 44222, 202-307-3106, ext. 44222, or e-mail: jevens@bop.gov. All technical and/or programmatic questions concerning this announcement should be directed to Kris Keller at 1960 Industrial Circle, Longmont, CO 80501, or by calling 800-995-6429, ext. 119 or 303-682-0382, ext. 119, or by e-mail: kdkeller@bop.gov.

Eligible Applicants: An eligible applicant is any state or general unit of local government, public or private agency, educational institution, organization, team, or individual with the requisite skills to successfully meet the outcome objectives of the project.

Review Considerations: Applications received under this announcement will be subjected to a NIC three to five member Peer Review Process. Among the criteria used to evaluate the applications are:

• Indication of a clear understanding of the project requirements;

• Background, experience, and expertise of the proposed project staff, including any subcontractors;

• Previous video production experience;

• Clear, concise description of all elements and tasks of the project, with sufficient and realistic time frames necessary to complete the tasks;

• Technical soundness of project design and methodology;

• Financial and administrative integrity of the proposal, including adherence to federal financial guidelines and processes;

• Sufficiently detailed budget that shows consideration of all contingencies for this project and commitment to work within the budget proposed;

• Indication of availability to meet the NIC staff at key points in videotape production (at a minimum, those listed under “Project Description”).

Number of Awards: One (1).

NIC Application Number: 02J23. This number should appear as a reference line in your cover letter, in box 11 of Standard Form 424, and on the outside of the envelope in which the application is sent.

Catalog of Federal Domestic Assistance Number: 16.601.
Dated: March 19, 2002.
Larry Solomon,
Deputy Director, National Institute of Corrections.

[FR Doc. 02-6995 Filed 3-21-02; 8:45 am]

BILLING CODE 4410-36-M